AGENCY FOR INTERNATIONAL DEVELOPMENT

30 Day Federal Register Notice on Proposed Information Collection

AGENCY: U.S. Agency for International Development.

ACTION: Notice of information collection.

SUMMARY: U.S. Agency for International Development (USAID), as part of its continuing effort to reduce paperwork and respondent burden, invites the general public and other Federal agencies to take this opportunity to comment on the following new information collection, as required by the Paperwork Reduction Act of 1995. This proposed information collection was published in the Federal Register on September 6, 2019, allowing for a 60-day public comment period and received one comment. The notice was revised to clarify participation in the survey is voluntary and how information will be used. The purpose of this notice is to allow an additional 30 days for public comment.

DATES: All comments should be submitted within 30 calendar days from the date of this publication.

ADDRESSES: Interested persons are invited to submit comments regarding the proposed information collection to Jennifer Cupp, USAID, Bureau for Food Security, at jcupp@usaid.gov.

FOR FURTHER INFORMATION CONTACT: Jennifer Cupp, USAID, Bureau for Food Security, jcupp@usaid.gov.

SUPPLEMENTARY INFORMATION: When submitting comments or requesting information, please include the information request collection title for reference.

I. Abstract

Abstract: The “USAID National Survey of U.S. Adults about Global Food Security” is a 20-minute nationally-representative voluntary survey of U.S. adults conducted for USAID by a professional research company. The purpose of the research is to inform the communications strategy, education, and outreach efforts for the Feed the Future Initiative. The research contractor will gather information and feedback by telephone and online from 1,000 voluntary adult participants using a nationally representative survey sampling method. Using the information collected in the survey, the research consultant will measure opinions about global food security and hunger, program awareness, reasons for improving global food security and reducing hunger, questions and concerns about the initiative, as well as consumer segments and insights for each segment to more effectively hone communication, education and outreach efforts. Information will be used to improve the effectiveness of Agency communications and education efforts with the public.

Likely Respondents: This study includes one respondent group, U.S. adults 18 years and older living in the fifty states and the District of Columbia.

Burden Statement: Burden in this context means the time expended by persons to generate, maintain, retain, disclose or provide the information requested. This includes the time needed to review instructions and survey screening criteria; to develop, acquire, install and utilize technology and systems for the purpose of providing opinions and feedback; to be able to respond to and complete the collection of information; and to transmit or otherwise disclose the information. The total annual burden hours estimated are summarized in the table below.

Estimated Annualized Burden Hours
Form name | Number of respondents | Number of responses per respondent | Total responses | Average burden per response (hours) | Total burden hours
USAID Feed the Future Initiative Audience Segmentation | 1,000 | 1 | 1,000 | .333 | 333
Screened households | 1,200 | 1 | 1,200 | .0167 | 20.04
Total |  |  | 2,200 |  | 353.04

USAID specifically requests comments on (1) the necessity and utility of the proposed information collection for the proper performance of the agency's functions; (2) the accuracy of the estimated burden; (3) ways to enhance the quality, utility, and clarity of the information to be collected; and (4) the use of automated collection techniques or other forms of information technology to minimize the information collection burden.

Comments submitted in response to this notice will be summarized and included in the request for OMB approval of this information collection. The comments will also become a matter of public record.

Dated: December 2, 2019.
Jennifer Cupp,
Communications Director, Feed the Future, U.S. Agency for International Development.

[FR Doc. 2019-26297 Filed 12-4-19; 8:45 am]

BILLING CODE 6116-02-P